DEPARTMENT OF COMMERCE

Foreign-Trade Zones Board

[B-56-2013]

Foreign-Trade Zone (FTZ) 141—Monroe County, New York; Notification of Proposed Production Activity; John D. Brush & Co., dba Sentry Group (Safes and Secured Storage Devices); Pittsford and East Rochester, New York

The County of Monroe, New York, grantee of FTZ 141, submitted a notification of proposed production activity to the FTZ Board on behalf of John D. Brush & Co., dba Sentry Group (Sentry), located in Pittsford and East Rochester, New York. The notification conforming to the requirements of the regulations of the FTZ Board (15 CFR 400.22) was received on May 30, 2013.

The Sentry facility is located within Subzone 141F. The facility is used for the manufacturing and warehousing of fire resistant safes and secured storage devices. Pursuant to 15 CFR 400.14(b), FTZ activity would be limited to the specific foreign-status materials and components and specific finished products described in the submitted notification (as described below) and subsequently authorized by the FTZ Board.

Production under FTZ procedures could exempt Sentry from customs duty payments on the foreign status components used in export production. On its domestic sales, Sentry would be able to choose the duty rates during customs entry procedures that apply to fire proof safes made of steel, fire and water resistant storage chests, gun safes, security safes, portable security safes, cash boxes, key boxes, safe boxes, drawer safes, depository safes and commercial safes (duty rate ranges from free to 3.8%) for the foreign status inputs noted below. Customs duties also could possibly be deferred or reduced on foreign status production equipment.

The components and materials sourced from abroad include: Interior lights, drawer slides, cap plugs, battery holders, replacement module kits, face plates, touchpads, plastic gun racks, keypad assemblies, panel lock assemblies, door backs, plastic trays, drawers, shelves, battery drawer assemblies, chrome bezels, locks, padlock assemblies, keys, battery packs, electronic lock assemblies, actuator boards, lock solenoids, diecast dial assemblies, metal dial assemblies, wood gun shelf racks, cable assemblies, communication cables, gasket kits, door springs, metal handles, handle assemblies, bungee cords, replacement keys, battery covers, key lock covers, steel screws and bolt down kits (duty rate ranges from 1.5 to 12.5%).

Public comment is invited from interested parties. Submissions shall be addressed to the Board's Executive Secretary at the address below. The closing period for their receipt is July 17, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: June 3, 2013.
Andrew McGilvray,
Secretary.

[FR Doc. 2013-13575 Filed 6-6-13; 8:45 am]

BILLING CODE 3510-DS-P